NUCLEAR REGULATORY COMMISSION

[NRC-2009-0308]

Draft Regulatory Guide: issuance, availability

AGENCY: Nuclear Regulatory Commission.

ACTION: Notice of issuance and availability of Draft Regulatory Guide, DG-1215.

FOR FURTHER INFORMATION CONTACT: Paul Prescott, U.S. Nuclear Regulatory Commission, Washington, DC 20555-0001, telephone: (301) 415-3026, e-mail: Paul.Prescott@nrc.gov or, R.A. Jervey, telephone (301) 251-7404, e-mail: raj@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Quality Assurance Program Requirements (Design and Construction),” is temporarily identified by its task number, DG-1215, which should be mentioned in all related correspondence. DG-1215 is proposed Revision 4 of Regulatory Guide 1.28.

DG-1215 describes methods that the NRC staff considers acceptable for complying with the provisions of Appendix B, “Quality Assurance Criteria for Nuclear Power Plants and Fuel Reprocessing Plants,” to Title 10, part 50, “Domestic Licensing of Production and Utilization Facilities,” of the Code of Federal Regulations (10 CFR part 50) for establishing and implementing a quality assurance (QA) program for the design and construction of nuclear power plants, fuel fabrication plants and fuel reprocessing plants.

The methods described in this revision are similar to the methods described in Regulatory Guide (RG) 1.28, “Quality Assurance Program Requirements (Design and Construction),” Revision 3, which is the previously published version of this regulatory guide. RG 1.33, “Quality Assurance Program Requirements (Operation)” addresses additional guidance for the establishment and execution of QA programs for nuclear power plants during the operations phase, which is unaffected by the revision to RG 1.28. DG-1215 endorses methods defined in American Society of Mechanical Engineers (ASME) NQA-1, “Quality Assurance Requirements for Nuclear Facility Applications.” The NRC is aware that the ASME standards committee has proposed minor changes to NQA-1 in a draft of ASME NQA-1a-2009, Addenda to ASME NQA-1-2008. If these addenda are issued in a timely manner, they will be considered for endorsement in RG 1.28, revision 4.

II. Further Information

The NRC staff is soliciting comments on DG-1215. Comments may be accompanied by relevant information or supporting data and should mention DG-1215 in the subject line. Comments submitted in writing or in electronic form will be made available to the public in their entirety through the NRC's Agencywide Documents Access and Management System (ADAMS).

Personal information will not be removed from your comments. You may submit comments by any of the following methods:

1. Mail comments to: Rulemaking and Directives Branch, Office of Administration, MS TWB-05-B01M, U.S. Nuclear Regulatory Commission, Washington, DC 20555-0001.

2. Federal e-Rulemaking Portal: Go to http://www.regulations.gov and search for documents filed under Docket ID [NRC-2009-0308]. Address questions about NRC dockets to Carol Gallagher, 301-492-3668; e-mail Carol.Gallagher@nrc.gov.

3. Fax comments to: Rulemaking and Directives Branch, Office of Administration, U.S. Nuclear Regulatory Commission at (301) 492-3446.

Requests for technical information about DG-1215 may be directed to the NRC contact, Paul Prescott at (301) 415-3026 or e-mail to Paul.Prescott@nrc.gov.

Comments would be most helpful if received by September 8, 2009. Comments received after that date will be considered if it is practical to do so, but the NRC is able to ensure consideration only for comments received on or before this date. Although a time limit is given, comments and suggestions in connection with items for inclusion in guides currently being developed or improvements in all published guides are encouraged at any time.

Electronic copies of DG-1215 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090150402.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 6th day of July 2009.
For the Nuclear Regulatory Commission.
Mark P. Orr,
Acting Chief, Regulatory Guide Development Branch, Division of Engineering, Office of Nuclear Regulatory Research.

[FR Doc. E9-16494 Filed 7-10-09; 8:45 am]

BILLING CODE 7590-01-P